DEPARTMENT OF THE INTERIOR

Draft WaterSMART Strategic Implementation Plan

AGENCY: Office of the Assistant Secretary for Water and Science, Interior.

ACTION: Notice of availability.

SUMMARY: The Department of the Interior's draft WaterSMART (Sustain and Manage America's Resources for Tomorrow) Strategic Implementation Plan (draft Strategic Implementation Plan) identifies activities that will be undertaken to secure and stretch water supplies for use by existing and future generations. Within the draft Strategic Implementation Plan each bureau and office within the Department of the Interior shall identify, coordinate, and integrate its water conservation and sustainable water strategies; identify its information needs; utilize best available science to understand the impacts of climate change on water supplies; and provide Federal leadership and assistance in working toward the goal of sustainable water supplies.

DATES: Submit written comments on the draft Strategic Implementation Plan on or before August 1, 2011.

ADDRESSES: Send written comments to Mr. David Raff, Bureau of Reclamation, Office of Policy and Administration 84-51000, P.O. Box 25007, Denver, Colorado 80225; or e-mail WaterSMARTBOR@usbr.gov.

FOR FURTHER INFORMATION CONTACT: David Raff, Bureau of Reclamation, (303) 445-2461, draff@usbr.gov.

SUPPLEMENTARY INFORMATION: Adequate water supplies are essential to people, the economy, and the environment. The Nation faces an increasing set of water resource challenges. Aging infrastructure, rapid population growth, depletion of groundwater resources, impaired water quality associated with particular land uses and covers, reservoir sedimentation, water needed for human and environmental uses, increased domestic energy development, and climate variability and change all play a role in determining the amount of fresh water available at any given place and time. It is increasingly recognized that water is the primary means through which climate change impacts the earth and people's livelihoods and well being. Water shortage and water-use conflicts have become more commonplace in many areas of the United States.

To ensure that the Department of the Interior is positioned to meet these challenges, the Secretary issued an order (Secretarial Order 3297) in February 2010 establishing the WaterSMART Program. Through the WaterSMART Program the Department of the Interior will work with states, tribes, local governments, and non-governmental organizations to secure and stretch water supplies for use by existing and future generations to benefit people, the economy, the environment, and will identify adaptive measures needed to address climate change and future demands. Within Secretarial Order 3297, Section 5(a) calls for the development of a written plan to implement the WaterSMART Strategy. The draft Strategic Implementation Plan fulfills that requirement and will provide the framework the Department of the Interior will use to provide Federal leadership in moving toward a sustainable water resources future.

The Department of the Interior began developing the draft Strategic Implementation Plan in the summer of 2010. The draft Strategic Implementation Plan was distributed to members of the Advisory Committee on Water Information for review and comment in the fall of 2010. Comments received during that review period have been incorporated within the draft Strategic Implementation Plan. The draft Strategic Implementation Plan includes information from each Department of the Interior bureau and office presented within 11 sections, including:

• Program Coordination.

• The Energy/Water Nexus: Water Used in Energy Production and Energy Used in Water Supply.

• Best Available Science.

• Water Footprint Reduction Program.

• WaterSMART Clearinghouse.

• Promoting Sustainable Water Strategies.

• Evaluation of Needed Information.

• Education and Awareness.

• Collaboration with States and Tribes.

• Planning Efforts.

• The Colorado River Basin Pilot.

The activities identified within the draft Strategic Implementation Plan represent a comprehensive and coordinated approach by which the Federal government can provide leadership in working with other Federal agencies, states, tribes, and local governments as well as non-governmental organizations to achieve a sustainable future.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: May 12, 2011.
Anne J. Castle,
Assistant Secretary for Water and Science.

[FR Doc. 2011-13735 Filed 6-1-11; 8:45 am]

BILLING CODE 4310-MN-P